Title 3—

The President

Presidential Determination No. 2003-34 of September 9, 2003

Presidential Determination on Certification to Permit U.S. Contributions to the International Fund for Ireland with

Fiscal Year 2002 and 2003 ESF Funds

Memorandum for the Secretary of State

Consistent with section 5(c) of the Anglo-Irish Agreement Support Act of 1986 (Public Law 99-415), as amended by section 2811 of the Omnibus Consolidated and Emergency Supplemental Appropriations Act, 1999 (as contained in Public Law 105-277), I hereby certify that I am satisfied that: (1) the Board of the International Fund for Ireland, as a whole, is broadly representative of the interests of the communities in Ireland and Northern Ireland; and (2) disbursements from the International Fund for Ireland (a) will be distributed to individuals and entities whose practices are consistent with principles of economic justice; and (b) will address the needs of both communities in Northern Ireland and will create employment opportunities in regions and communities of Northern Ireland suffering from high rates of unemployment.

You are authorized and directed to transmit this certification, together with the memorandum of justification prepared by my Administration, to the Congress and to publish this certification in the Federal Register.

B

THE WHITE HOUSE,

Washington, September 9, 2003.

[FR Doc. 03-24109

Filed 9-18-03; 8:45 am]

Billing code 4710-10-P